DEPARTMENT OF COMMERCE

National Oceanic and Atmospheric Administration

[File No. 15483]

RIN 0648-XX23

Marine Mammals

AGENCY: National Marine Fisheries Service (NMFS), National Oceanic and Atmospheric Administration (NOAA), Commerce.

ACTION: Notice; issuance of permit.

SUMMARY: Notice is hereby given that Bruce Mate, PhD, Oregon State University, Hatfield Marine Science Center, Newport, OR has been issued a permit to conduct research on marine mammals.

ADDRESSES: The permit and related documents are available for review upon written request or by appointment in the following office(s):

Permits, Conservation and Education Division, Office of Protected Resources, NMFS, 1315 East-West Highway, Room 13705, Silver Spring, MD 20910; phone (301) 713-2289; fax (301) 713-0376; and

Northwest Region, NMFS, 7600 Sand Point Way NE, BIN C15700, Bldg. 1, Seattle, WA 98115-0700; phone (206) 526-6150; fax (206) 526-6426.

FOR FURTHER INFORMATION CONTACT: Tammy Adams or Kristy Beard, (301) 713-2289.

SUPPLEMENTARY INFORMATION: On July 13, 2010, notice was published in the Federal Register (75 FR 39915) that a request for a permit to conduct research on gray whales (Eschrictius robustus) had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes takes of marine mammals by level B harassment during a study to evaluate the effectiveness of an underwater acoustic deterrent device at diverting gray whales migrating past the coast of central Oregon between January and mid-April away from the sound source. The permit also authorizes incidental level B harassment of harbor porpoise (Phocoena phocoena), Southern Resident and West Coast Transient killer whales (Orcinus orca), harbor seals (Phoca vitulina), California sea lions (Zalophus californianus), Eastern Distinct Population Segment Steller sea lions (Eumetopias jubatus), and Northern elephant seals (Mirounga angustirostris). The permit is valid for five years from the date of issuance.

In compliance with the National Environmental Policy Act of 1969 (42 U.S.C. 4321 et seq.), an environmental assessment (EA) was prepared analyzing the effects of the permitted activities on the human environment. Based on the analyses in the EA, NMFS determined that issuance of the permit would not significantly impact the quality of the human environment and that preparation of an environmental impact statement was not required. That determination is documented in a Finding of No Significant Impact (FONSI), signed on October 29, 2010.

As required by the ESA, issuance of this permit was based on a finding that such permit: (1) Was applied for in good faith; (2) will not operate to the disadvantage of such endangered species; and (3) is consistent with the purposes and policies set forth in section 2 of the ESA.

Dated: November 2, 2010.
P. Michael Payne,
Chief, Permits, Conservation and Education Division, Office of Protected Resources, National Marine Fisheries Service.

[FR Doc. 2010-28169 Filed 11-5-10; 8:45 am]

BILLING CODE 3510-22-P